DEPARTMENT OF TRANSPORTATION

Federal Aviation Administration

14 CFR Part 39

[Docket No. FAA-2017-0511; Directorate Identifier 2016-NM-176-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model CL-600-1A11 (CL-600), CL-600-2A12 (CL-601 Variant), and CL-600-2B16 (CL-601-3A, CL-601-3R, and CL-604 Variants) airplanes. This proposed AD was prompted by a new life limitation that has been introduced for the side brace fitting shaft and side brace-to-airplane fitting pin of the main landing gear (MLG). This proposed AD would require revising the maintenance or inspection program. This proposed AD would also require an inspection to identify the serial number, to serialize, and to record the accumulated life of the side brace fitting shaft of the MLG. We are proposing this AD to address the unsafe condition on these products.

DATES: We must receive comments on this proposed AD by July 24, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0511; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office (ACO), 1600 Stewart Avenue, Suite 410, Westbury, NY 11590; telephone 516-228-7329; fax 516-794-5531.

SUPPLEMENTARY INFORMATION:

Comments Invited

We invite you to send any written relevant data, views, or arguments about this proposed AD. Send your comments to an address listed under the ADDRESSES section. Include “Docket No. FAA-2017-0511; Directorate Identifier 2016-NM-176-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2016-17R2, dated June 29, 2016 (referred to after this as the Mandatory Continuing Airworthiness Information, or “the MCAI”), to correct an unsafe condition for certain Bombardier, Inc. Model CL-600-1A11 (CL-600), CL-600-2A12 (CL-601 Variant), and CL-600-2B16 (CL-601-3A, CL-601-3R, and CL-604 Variants) airplanes. The MCAI states:

Based on in-service experience, a new life limitation has been introduced for the following side brace fitting shaft part numbers:

• 600-10237-1/-5

• 600-10237-3

• 601R10237-1/-3

In order to facilitate identification and tracking, the component must be identified and serialized. Bombardier has revised the Time Limits/Maintenance Checks (TLMC) Manual to include new life limits and issued Service Bulletins (SB) for serialization of the affected parts.

The original version of this [Canadian] AD was issued to mandate the incorporation of the new TLMC life limits as well as identification and serialization of the affected parts. The revision 1 of this [Canadian] AD was issued * * * June [10,] 2016 to correct a typographic error in Table A of the Corrective Actions section. The revision 2 of this [Canadian] AD is being issued to correct/update the TLMC data in Table A of the Corrective Actions section.

Required actions include an inspection to identify the serial number, to serialize, and to record the accumulated life of the side brace fitting shaft of the MLG. The unsafe condition is the loss of structural integrity of the affected part. You may examine the MCAI in the AD docket on the Internet at http://www.regulations.gov by searching for and locating Docket No. FAA-2017-0511.

Related Service Information Under 1 CFR Part 51

We reviewed the following service information. The service information describes the life limits for the side brace fitting shaft and side brace-to-airplane fitting pin of the MLG. The service information is distinct since it applies to different airplane models in different configurations.

• Chapter 5-10-10, Airworthiness Limitations, of the Bombardier Challenger PSP 605 Time Limits/Maintenance Checks, Revision 37, dated April 29, 2016.

• Chapter 5-10-10, Airworthiness Limitations, of the Bombardier Challenger PSP 601-5 Time Limits/Maintenance Checks, Revision 42, dated April 22, 2014.

• Chapter 5-10-10, Airworthiness Limitations, of the Bombardier Challenger PSP 601A-5 Time Limits/Maintenance Checks, Revision 38, dated April 22, 2014.

• Chapter 5-10-10, Airworthiness Limitations, of Part 2, of the Bombardier Challenger CL-604 Time Limits/Maintenance Checks, Revision 26, dated June 9, 2016.

• Chapter 5-10-10, Airworthiness Limitations, of Part 2, of the Bombardier Challenger CL-605 Time Limits/Maintenance Checks, Revision 14, dated June 9, 2016.

We have also reviewed the following service information. The service information describes procedures for an inspection to identify the serial number, to serialize, and to record the accumulated life of the side brace fitting shaft of the MLG. The service bulletins are distinct since they apply to different airplane models.

• Bombardier Service Bulletin 600-0768, dated September 9, 2014.

• Bombardier Service Bulletin 601-0636, Revision 01, dated May 10, 2016.

• Bombardier Service Bulletin 604-57-005, dated September 9, 2014.

• Bombardier Service Bulletin 605-57-003, dated September 9, 2014.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (k)(1) of this proposed AD. The request should include a description of changes to the required actions that will ensure the continued operational safety of the airplane.

Costs of Compliance

We estimate that this proposed AD affects 133 airplanes of U.S. registry.

We estimate the following costs to comply with this proposed AD:

Estimated Costs
Action | Labor cost | Parts cost | Cost per product | Cost on U.S. operators
Maintenance or inspection program revision | 1 work-hour × $85 per hour = $85 | $0 | $85 | $11,305
Inspection, identification, serialization, and recording | 1 work-hour × $85 per hour = $85 | 33 | 118 | 15,694

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2017-0511; Directorate Identifier 2016-NM-176-AD.

(a) Comments Due Date

We must receive comments by July 24, 2017.

(b) Affected ADs

None.

(c) Applicability

This AD applies to the airplanes specified in paragraphs (c)(1) through (c)(3) of this AD, certificated in any category.

(1) Bombardier, Inc. Model CL-600-1A11 (CL-600) airplanes, serial numbers 1004 through 1085 inclusive.

(2) Bombardier, Inc. Model CL-600-2A12 (CL-601 Variant) airplanes, serial numbers 3001 through 3066 inclusive.

(3) Bombardier, Inc. Model CL-600-2B16 (CL-601-3A, CL-601-3R, and CL-604 Variants) airplanes, serial numbers 5001 through 5194 inclusive; serial numbers 5301 through 5665 inclusive, and serial numbers 5701 through 5851 inclusive.

(d) Subject

Air Transport Association (ATA) of America Code 57, Wings.

(e) Reason

This AD was prompted by a new life limitation that has been introduced for the side brace fitting shaft and side brace-to-airplane fitting pin of the main landing gear (MLG). We are issuing this AD to prevent the loss of structural integrity of the affected part.

(f) Compliance

Comply with this AD within the compliance times specified, unless already done.

(g) Revision of Maintenance or Inspection Program

Within 30 days after the effective date of this AD, revise the maintenance or inspection program, as applicable, by incorporating the life limits for the side brace fitting shaft and side brace-to-airplane fitting pin of the MLG, as applicable, identified in table 1 to paragraph (g) of this AD. The initial compliance time for accomplishing the replacement is at the applicable time in the Time Limits/Maintenance Checks (TLMC) Manual revisions specified in table 1 to paragraph (g) of this AD, or within 30 days after the effective date of this AD, whichever occurs later.

Table 1 to Paragraph (g) of This AD—Life Limits for the Affected Parts
Airplane model (Serial Nos. (S/Ns)) | Part name | Part No. | TLMC manual No. | Chapter | Revision No. | Revision date
CL-600-1A11 (S/Ns 1004 through 1085 inclusive) | MLG Side Brace-to-Airplane Fitting Pin | 600-10237-1/-5 | PSP 605 | 5-10-10 | 37 | April 29, 2016.
CL-600-2A12 (S/N 3001-3066 inclusive) | MLG Side Brace-to-Airplane Fitting Pin | 600-10237-3 | PSP 601-5 | 5-10-10 | 42 | April 22, 2014.
CL-600-2B16 (S/Ns 5001-5194 inclusive) | MLG Side Brace-to-Airplane Fitting Pin | 600-10237-3 | PSP 601A-5 | 5-10-10 | 38 | April 22, 2014.
CL-600-2B16 (S/Ns 5301-5665 inclusive) | MLG Side Brace Fitting Shaft | 601R10237-1/-3 | CL-604 | 5-10-10 (Part 2) | 26 | June 9, 2016.
CL-600-2B16 (S/Ns 5701-5851 inclusive) | MLG Side Brace Fitting Shaft | 601R10237-1/-3 | CL-605 | 5-10-10 (Part 2) | 14 | June 9, 2016.

(h) Inspection, Serialization, and Recording of Life Limited Parts

Within 48 months after the effective date of this AD: Inspect to identify the serial number, serialize, and record the accumulated life of the side brace fitting shaft of the MLG, as applicable, in accordance with the Accomplishment Instructions of the applicable service information in paragraphs (h)(1) through (h)(4) of this AD.

(1) For CL-600-1A11 airplanes (S/Ns 1004 through 1085 inclusive): Bombardier Service Bulletin 600-0768, dated September 9, 2014.

(2) For CL-600-2A12 (S/Ns 3001 through 3066 inclusive) and CL-600-2B16 airplanes (S/Ns 5001 through 5194 inclusive): Bombardier Service Bulletin 601-0636, Revision 01, dated May 10, 2016.

(3) For CL-600-2B16 aeroplanes (S/Ns 5301 through 5665 inclusive): Bombardier Service Bulletin 604-57-005, dated September 9, 2014.

(4) For CL-600-2B16 aeroplanes (S/Ns 5701 through 5851 inclusive): Bombardier Service Bulletin 605-57-003, dated September 9, 2014.

(i) No Reporting Requirement

Although the service information identified in paragraphs (h)(1) through (h)(4) of this AD specifies to submit certain information to the manufacturer, this AD does not include that requirement.

(j) No Alternative Actions and Intervals

After the maintenance or inspection program has been revised, as applicable, as required by paragraph (g) of this AD, no alternative actions (e.g., inspections) or intervals may be used unless the actions or intervals are approved as an alternative method of compliance (AMOC) in accordance with the procedures specified in paragraph (k)(1) of this AD.

(k) Other FAA AD Provisions

The following provisions also apply to this AD:

(1) Alternative Methods of Compliance (AMOCs): The Manager, New York Aircraft Certification Office, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(l) Related Information

(1) Refer to Mandatory Continuing Airworthiness Information (MCAI) Canadian Airworthiness Directive CF-2016-17R2, dated June 29, 2016, for related information. This MCAI may be found in the AD docket on the Internet at http://www.regulations.gov by searching for and locating Docket No. FAA-2017-0511.

(2) For more information about this AD, contact Aziz Ahmed, Aerospace Engineer, Airframe and Mechanical Systems Branch, ANE-171, FAA, New York ACO, 1600 Stewart Avenue, Suite 410, Westbury, NY 11590; telephone 516-228-7329; fax 516-794-5531.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this service information at the FAA, Transport Airplane Directorate, 1601 Lind Avenue SW., Renton, WA. For information on the availability of this material at the FAA, call 425-227-1221.

Issued in Renton, Washington, on May 18, 2017.
Michael Kaszycki,
Acting Manager, Transport Airplane Directorate, Aircraft Certification Service.

[FR Doc. 2017-11001 Filed 6-6-17; 8:45 am]

BILLING CODE 4910-13-P